DEPARTMENT OF COMMERCE

National Oceanic and Atmospheric Administration

50 CFR Part 648

[Docket No.: 180110024-8024-01]

RIN 0648-BH33

Fisheries of the Northeastern United States; Special Management Zones for 13 New Jersey Artificial Reefs

AGENCY: National Marine Fisheries Service (NMFS), National Oceanic and Atmospheric Administration (NOAA), Commerce.

ACTION: Proposed rule; request for comments.

SUMMARY: NMFS proposes management measures to implement special management zones for 13 New Jersey artificial reefs under the black sea bass provisions of the Summer Flounder, Scup, and Black Sea Bass Fishery Management Plan. The implementing regulations for the special management zones require NMFS to publish proposed measures to provide an opportunity for public comment. The intent of these measures is to reduce user group conflicts and help maintain the intended socioeconomic benefits of the artificial reefs to the maximum extent practicable.

DATES: Comments must be received by March 15, 2018.

ADDRESSES: NMFS prepared a draft environmental assessment (EA) and an Initial Regulatory Flexibility Analysis (IRFA) for this action that describe the proposed measures and other considered alternatives and analyzes of the impacts of the proposed measures and alternatives. Copies of the the draft EA and the IRFA are available upon request from Travis Ford, NOAA/NMFS, Sustainable Fisheries Division, 55 Great Republic Drive, Gloucester, MA 01930. The special management zone measures document is also accessible via the internet at: https://www.greateratlantic.fisheries.noaa.gov/.

You may submit comments on this document, identified by NOAA-NMFS-2017-0150, by either of the following methods:

• Electronic Submission: Submit all electronic public comments via the Federal e-Rulemaking Portal. Go to www.regulations.gov/#!docketDetail;D=NOAA-NMFS-2017-0150, click the “Comment Now!” icon, complete the required fields, and enter or attach your comments.

• Mail: Regional Administrator, NMFS, Greater Atlantic Regional Fisheries Office, 55 Great Republic Drive, Gloucester, MA 01930. Mark the outside of the envelope, “Comments on New Jersey Special Management Zones Designation.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Travis Ford, Fishery Policy Analyst, 978-281-9233.

SUPPLEMENTARY INFORMATION:

Background

The New Jersey Department of Environmental Protection (NJDEP) has requested and the Mid-Atlantic Fishery Management Council has recommended that NMFS designate 13 New Jersey artificial reef sites, currently permitted in Federal waters by the U.S. Army Corps of Engineers, as special management zones (SMZs) under the applicable regulations implementing the Council's Summer Flounder, Scup, and Black Sea Bass Fishery Management Plan (FMP), 50 CFR 648.148.

The summer flounder, scup, and black sea bass fisheries are managed cooperatively under the provisions of the FMP developed by the Council and the Atlantic States Marine Fisheries Commission, in consultation with the New England and South Atlantic Fishery Management Councils. General regulations governing fisheries of the Northeastern U.S. also appear at 50 CFR part 648. States manage these three species within 3 nautical miles (4.83 km) of their coasts, under the Commission's plan for summer flounder, scup, and black sea bass. The applicable species-specific Federal regulations govern vessels and individual fishermen fishing in Federal waters of the EEZ, as well as vessels possessing a summer flounder, scup, or black sea bass Federal charter/party vessel permit, regardless of where they fish.

Special Management Zone Measures Background

On November 6, 2015, the NJDEP requested that the Council designate 13 artificial reef sites, currently permitted in Federal waters by the U.S. Corps of Engineers, as SMZs under the regulations implementing the Council's Summer Flounder, Scup, and Black Sea Bass FMP. The SMZ request noted that the NJDEP has received complaints from rod and reel anglers regarding fouling of their fishing gear in commercial pots and lines on ocean reef sites for more than 20 years. The request also noted that the U.S. Fish and Wildlife Service (FWS) Sportfish Restoration Program (SRP), which was the primary funding source of the New Jersey Reef Program, discontinued its funding of the program and all reef construction and monitoring activities until the gear conflicts are resolved. These gear conflicts are not consistent with the objectives of the SRP program, which provides funding for the building and maintenance of the artificial reefs. In order to comply with the goals of the SRP, the FWS is requiring that state artificial reef programs be able to limit gear conflicts by state regulations in state waters or by SMZs for sites in the EEZ.

The Council process for devising SMZ management measures is to recommend measures to NMFS for rulemaking, and is described in the following section. All meetings are open to the public and the materials used during such meetings, as well as any documents created to summarize the meeting results, are public information and typically posted on the Council's website (www.mafmc.org) or are available from the Council by request.

The SMZ recommendations from the Council were established under the FMP's black sea bass provisions (§ 648.148). A monitoring committee, consisting of representatives from the Council, NMFS Greater Atlantic Regional Fisheries Office, and NMFS Northeast Fisheries Science Center, was formed to review the NJDEP SMZ request. The FMP's implementing regulations require the monitoring committee to review scientific and other relevant information to evaluate the SMZ requests and prepare a written report, considering the following criteria:

(1) Fairness and equity;

(2) Promotion of conservation;

(3) Avoidance of excessive shares;

(4) Consistency with the objectives of Amendment 9 to the FMP, the Magnuson-Stevens Act, and other applicable law;

(5) The natural bottom in and surrounding potential SMZs; and

(6) Impacts on historical uses.

The Council considered the Monitoring Committee's recommendations and any public comment in finalizing its recommendations. The Council forwarded its final recommendations to NMFS for review. NMFS is required to review the Council's recommendations to ensure that they are consistent with the FMP and all applicable laws and Executive Orders before ultimately implementing measures for Federal waters.

The timeline for establishing the SMZs is summarized here: The NJDEP requested SMZ status for the artificial reefs in November 2015; the Council and NMFS established a monitoring committee to review the request in February 2016; the monitoring committee provided a report to the Council evaluating the SMZ request at its October 5, 2016, meeting in Galloway, NJ.

Following this meeting, the Council held three public hearings on the proposed SMZs (Brooklyn, NY, November 16, 2016; Toms River, NJ, November 16, 2016; and Cape May, NJ, November 17, 2016), and the Council made final recommendations on the SMZs at its December 21, 2016, meeting in Baltimore, Maryland. NMFS subsequently has reviewed the Council's recommendations through the development of an EA (see ADDRESSES for how to obtain a copy of the EA) and this proposed rule.

Proposed SMZ Measures

NMFS is proposing the Council's recommended measures that would apply in the Federal waters of the EEZ and to all vessels: That all 13 New Jersey artificial reefs be established as year-round SMZs. Within the established areas of the SMZs, all vessels would only be allowed to conduct fishing by handline, rod and reel, or spear fishing (including the taking of fish by hand).

The boundaries of the proposed SMZs artificial reef sites encompass 19.71 nm² (67.6 km²) and are in Federal waters bounded by the following coordinates connected by straight lines in the sequence specified in Tables 1-13 below.

The coordinates of the 13 SMZ reef areas proposed to be created by this rule would be codified at 50 CFR 648.148(b)(2). This requires a re-organization of the existing SMZ regulations in CFR 648.148(b); no substantive changes are proposed for those provisions.

Table 1—Sea Girt Reef Site
Point | N Latitude | W Longitude
NE Corner | 40°08.22′ | 73°55.52′
ME Corner | 40°07.30′ | 73°56.67′
SE Corner | 40°06.13′ | 73°57.12′
SW Corner | 40°06.17′ | 73°57.57′
MW Corner | 40°07.48′ | 73°57.15′
NW Corner | 40°08.63′ | 73°55.73′
NE Corner | 40°08.22′ | 73°55.52′

Table 2—Garden State North Reef Site
Point | N Latitude | W Longitude
NE Corner | 39°38.05′ | 74°00.70′
SE Corner | 39°37.05′ | 74°01.00′
SW Corner | 39°37.00′ | 74°02.50′
NW Corner | 39°37.98′ | 74°02.20′
NE Corner | 39°38.05′ | 74°00.70′

Table 3—Garden State South Reef Site
Point | N Latitude | W Longitude
NE Corner | 39°33.82′ | 74°05.75′
SE Corner | 39°33.33′ | 74°05.85′
SW Corner | 39°33.33′ | 74°07.35′
NW Corner | 39°33.80′ | 74°07.20′
NE Corner | 39°33.82′ | 74°05.75′

Table 4—Little Egg Reef Site
Point | N Latitude | W Longitude
NE Corner | 39°29.00′ | 74°10.00′
SE Corner | 39°28.00′ | 74°10.00′
SW Corner | 39°28.00′ | 74°12.00′
NW Corner | 39°29.00′ | 74°12.00′
NE Corner | 39°29.00′ | 74°10.00′

Table 5—Atlantic City Reef Site
Point | N Latitude | W Longitude
NE Corner | 39°16.90′ | 74°15.28′
SE Corner | 39°13.93′ | 74°11.80′
SW Corner | 39°13.30′ | 74°12.70′
NW Corner | 39°16.22′ | 74°16.18′
NE Corner | 39°16.90′ | 74°15.28′

Table 6—Great Egg Reef Site
Point | N Latitude | W Longitude
NE Corner | 39°15.00′ | 74°21.00′
SE Corner | 39°14.00′ | 74°21.00′
SW Corner | 39°14.00′ | 74°22.00′
NW Corner | 39°15.00′ | 74°22.00′
NE Corner | 39°15.00′ | 74°21.00′

Table 7—Ocean City Reef Site
Point | N Latitude | W Longitude
NE Corner | 39°10.75′ | 74°32.35′
SE Corner | 39°09.40′ | 74°34.62′
SW Corner | 39°09.82′ | 74°34.97′
NW Corner | 39°11.10′ | 74°32.85′
NE Corner | 39°10.75′ | 74°32.35′

Table 8—Shark River Reef Site
Point | N Latitude | W Longitude
NE Corner | 40°07.33′ | 73°41.08′
SE Corner | 40°06.20′ | 73°41.08′
SW Corner | 40°20.20′ | 73°41.80′
NW Corner | 40°07.33′ | 73°41.80′
NE Corner | 40°07.33′ | 73°41.08′

Table 9—Barnegat Light Reef Site
Point | N Latitude | W Longitude
NE Corner | 39°45.87′ | 74°01.10′
SE Corner | 39°44.62′ | 74°01.10′
SW Corner | 39°44.62′ | 74°01.95′
NW Corner | 39°45.87′ | 74°01.95′
NE Corner | 39°45.87′ | 74°01.10′

Table 10—Wildwood Reef Site
Point | N Latitude | W Longitude
NE Corner | 38°57.85′ | 74°39.70′
SE Corner | 38°56.58′ | 74°41.40′
SW Corner | 38°57.55′ | 74°42.60′
NW Corner | 38°58.80′ | 74°40.90′
NE Corner | 38°57.85′ | 74°39.70′

Table 11—Deepwater Reef Site
Point | N Latitude | W Longitude
NE Corner | 38°59.00′ | 74°10.50′
SE Corner | 38°58.00′ | 74°10.50′
SW Corner | 38°58.00′ | 74°11.50′
NW Corner | 38°59.00′ | 74°11.50′
NE Corner | 38°59.00′ | 74°10.50′

Table 12—Cape May Reef Site
Point | N Latitude | W Longitude
NE Corner | 38°53.45′ | 74°39.43′
SE Corner | 38°50.07′ | 74°42.25′
SW Corner | 38°50.67′ | 74°43.25′
NW Corner | 38°53.97′ | 74°40.62′
NE Corner | 38°53.45′ | 74°39.43′

Table 13—Townsend Inlet Reef Site
Point | N Latitude | W Longitude
NE Corner | 39°06.70′ | 74°36.00′
SE Corner | 39°06.25′ | 74°36.00′
SW Corner | 39°06.25′ | 74°37.50′
NW Corner | 39°06.70′ | 74°37.50′
NE Corner | 39°06.70′ | 74°36.00′

Figure 1. shows the location of the 13 proposed artificial reef sites off the coast of New Jersey.

BILLING CODE 3510-22-P

BILLING CODE 3510-22-C

Regulatory Corrections Under Regional Administrator Authority

This proposed rule includes a revision to the regulatory text to address text that is unnecessary, outdated, unclear, or NMFS could otherwise improve. NMFS proposes this changes consistent with section 305(d) of the MSA which provides that the Secretary of Commerce may promulgate regulations necessary to ensure that amendments to an FMP are carried out in accordance with the FMP and the MSA. The revision, at § 648.148(a), would clarify the Council may prohibit or restrain the use of specific types of fishing gear that are not compatible with the purpose of the artificial reef or fish attraction device or other habitat modification within the SMZ.

Classification

Pursuant to section 304(b)(1)(A) of the Magnuson-Stevens Fishery Conservation and Management Act, the Assistant Administrator has determined that this proposed rule is consistent with the Summer Flounder, Scup, and Black Sea Bass FMP, other provisions of the Magnuson-Stevens Act, and other applicable law, subject to further consideration after public comment.

This proposed rule has been determined to be not significant for purposes of Executive Order 12866.

NMFS prepared an IRFA, as required by section 603 of the Regulatory Flexibility Act (RFA), which is included in the EA and supplemented by information contained in the preamble to this proposed rule. The IRFA describes the economic impact this proposed rule, if adopted, would have on small entities. A summary of the IRFA follows. A copy of this analysis is available from the Greater Atlantic Regional Fisheries Office (see ADDRESSES).

Description of the Reasons Why Action by the Agency Is Being Considered

NJDEP requested and the Council recommended that 13 New Jersey artificial reef sites, currently permitted by the U.S. Army Corps of Engineers in the EEZ, be designated as SMZs to limit recreational/commercial gear conflicts on the artificial reefs, and to maintain FWS SRP funding for the building, monitoring, and maintenance of the artificial reefs.

Statement of the Objectives of and the Legal Basis for This Proposed Rule

The action in this proposed rule would prohibit certain types fishing in the proposed SMZs. This would reduce current and/or future potential for recreational/commercial gear conflicts on the 13 New Jersey artificial reefs in order to maintain access to the reefs for recreational fishing. This action is proposed under the Magnuson-Stevens Act, 16 U.S.C. 1801 et seq.

Description of an Estimate of the Number of Small Entities To Which the Proposed Rule Would Apply

The Small Business Administration (SBA) defines a small commercial finfishing or shellfishing business as a firm with annual receipts (gross revenue) of up to $11.0 million. A small for-hire recreational fishing business is defined as a firm with receipts of up to $7.5 million.

This rule would apply to all Federal permit holders except recreational for-hire permit holders and commercial permit holders using hand gear or dive gear. While virtually all commercial fishing permit holders employing gear other than pot/trap gear would technically be regulated if the artificial reefs are granted SMZ status, the vast majority of the commercial fishing effort on these artificial reefs comes from the pot/trap gear sector. Therefore, only pot/trap gear vessel trips are considered in this analysis. Hand gear and dive gear activities would continue to be allowed under SMZ designation, and vessels using other mobile gears and fixed gears stay clear of the reef site areas to avoid bottom hang-ups with reef materials. Additionally, not all business entities that hold Federal fishing permits fish in the areas identified as potential SMZs. Those who actively participate (i.e., catch and land fish in and from at least one of the areas) in the areas identified as potential SMZs would be the group of business entities that are directly impacted by the regulations.

During 2013, 2014, and 2015: 24 Vessels reported landings of fish caught at the reef sites in all 3 of those years; 10 vessels reported landings of fish caught at the reef sites in 2 of the 3 years; and 18 vessels reported landings of fish caught at the reef sites in only 1 of the 3 years. A total of 52 unique commercial vessels reported landings of catch estimated to be from within the coordinates of the 13 reef sites from 2013-2015.

Based on the ownership data classification process described above, the 52 directly affected participating commercial fishing vessels were owned by 45 unique fishing business entities. All revenue earned by these businesses was derived from finfishing or shellfishing, and no revenue was earned from for-hire recreational fishing. Thus, all 45 of the potentially affected businesses are classified as commercial fishing business entities.

Average annual gross revenue estimates calculated from 2013-2015 Northeast region dealer data indicate that only one of the potentially affected business entities under the preferred alternative would be considered large according to the SBA size standards. In other words, one business, classified as a commercial fishing business, averaged more than $11 million annually in gross revenues from all of its fishing activities during 2013-2015. Therefore, 44 of the 45 potentially affected business entities are considered small and one business entity is considered large.

Description of the Projected Reporting, Record-Keeping, and Other Compliance Requirements of the Proposed Rule

This action does not introduce any new reporting, recordkeeping, or other compliance requirements.

Federal Rules Which May Duplicate, Overlap, or Conflict With This Proposed Rule

This proposed action will not duplicate, overlap, or conflict with any other Federal rules.

Description of Significant Alternatives to the Proposed Action Which Accomplish the Stated Objectives of Applicable Statutes and Which Minimize Any Significant Economic Impact on Small Entities

The Council only considered the proposed action (Alternative 2) and the No Action alternative (Alternative 1). However, NMFS also considered a slightly less restrictive alternative after receiving the Council's recommendation (Alternative 3). Under the No Action alternative, vessels would still be able to fish with pot/trap gear on the 13 artificial reef sites. Alternative 3 would designate 11 of the 13 artificial reefs as SMZs (excludes Shark River and Wildwood); 41 unique fishing business entities were estimated to have landings within the coordinates of the 11 reef sites from 2013-2015. The Shark River and Wildwood reef site were excluded under this alternative because these sites had higher percentage of commercial effort when compared to the percentage of recreational effort. One of the potentially affected business entities under this alternative would be considered large (the same entity identified as large under the preferred alternative).

Table 14 compares the number of potentially affected business entities by percent of total average annual gross revenue landed within the actual latitude and longitude coordinates of the two alternatives. Under both the preferred alternative and the Alternative 3, all commercial fishing businesses categorized as small in this assessment obtained less than 5 percent of their total average annual gross revenues from landings within the coordinates of the reef sites. The only business entity defined as large for this assessment earned less than 0.5 percent of its total average annual gross revenues from landings at the reef sites.

Alternative 2 was selected as the preferred alternative because it would reduce gear conflicts on all 13 of the artificial reefs. For Alternatives 1 and 3, gear conflicts would remain on all reefs not designated as SMZs. Alternative 2 would result in slight positive economic impacts to the recreational fleet and likely have slight negative to negligible economic effects on the commercial fishery compared to the No Action alternative. Further, under Alternative 2, the program to maintain the artificial reefs would not be in jeopardy of losing its USFWS funding.

Table 14—Number of Potential Business Entities Affected by Percent of Total Average Annual Gross Revenue Landed Within the Coordinates of the Reef Sites
| Percent of total average annual gross revenue (2013-2016): <0.5% | Percent of total average annual gross revenue (2013-2016): 0.5% to 1.0% | Percent of total average annual gross revenue (2013-2016): 1.0% to 5.0% | Percent of total average annual gross revenue (2013-2016): >5.0%
Proposed Action
Commercial Fishing (Small) | 35 | 2 | 7 | 0
Commercial Fishing (Large) | 1 | 0 | 0 | 0
Alternative
Commercial Fishing (Small) | 32 | 2 | 6 | 0
Commercial Fishing (Large) | 1 | 0 | 0 | 0

List of Subjects 50 CFR Part 648

Fisheries, Fishing, Recordkeeping and reporting requirements.

Dated: February 8, 2018.
Samuel D. Rauch, III,
Deputy Assistant Administrator for Regulatory Programs, National Marine Fisheries Service.

For the reasons set out in the preamble, 50 CFR part 648 is proposed to be amended as follows:

PART 648—FISHERIES OF THE NORTHEAST UNITED STATES

1. The authority citation for part 648 continues to read as follows:

Authority: 16 U.S.C. 1801 et seq.

2. In § 648.148, revise paragraphs (a) introductory text and (b) to read as follows:

§ 648.148 Special management zones.

(a) General. The recipient of a U.S. Army Corps of Engineers permit for an artificial reef, fish attraction device, or other modification of habitat for purposes of fishing may request that an area surrounding and including the site be designated by the MAFMC as a special management zone (SMZ). The MAFMC may prohibit or restrain the use of specific types of fishing gear that are not compatible with the purpose of the artificial reef or fish attraction device or other habitat modification within the SMZ. The establishment of an SMZ will be effected by a regulatory amendment, pursuant to the following procedure: An SMZ monitoring team comprised of members of staff from the MAFMC, NMFS Greater Atlantic Regional Fisheries Office, and NMFS Northeast Fisheries Science Center will evaluate the request in the form of a written report.

* * * * *

(b) Approved/Established SMZs—(1) Delaware Special Management Zone Areas. Special management zones are established for Delaware artificial reef permit areas #9, 10, 11, and 13, in the area of the U.S. Exclusive Economic Zone. From January 1 through December 31 of each year, no person may fish in the Delaware Special Management Zones except by handline, rod and reel, or spear fishing (including the taking of fish by hand). The Delaware Special Management Zones are defined by rhumb lines connecting the following coordinates in the order stated:

(i) Delaware artificial reef #9.

Point | Corner | N Latitude | W Longitude
1 | 9SE | 38°39.972′ | 74°59.298′
2 | 9SW | 38°40.05′ | 75°0.702′
3 | 9NW | 38°40.848′ | 75°0.402′
4 | 9NE | 38°40.8′ | 74°58.902′
5 | 9SE | 38°39.972′ | 74°59.298′

(ii) Delaware artificial reef #10.

Point | Corner | N Latitude | W Longitude
1 | 10SE | 38°36.198′ | 74°55.674′
2 | 10SW | 38°36.294′ | 74°57.15′
3 | 10NW | 38°37.098′ | 74°56.802′
4 | 10NE | 38°37.002′ | 74°55.374′
5 | 10SE | 38°36.198′ | 74°55.674′

(iii) Delaware artificial reef #11.

Point | Corner | N Latitude | W Longitude
1 | 11SE | 38°39.882′ | 74°43.05′
2 | 11SW | 38°40.002′ | 74°44.802′
3 | 11NW | 38°40.848′ | 74°44.502′
4 | 11NE | 38°40.752′ | 74°42.75′
5 | 11SE | 38°39.882′ | 74°43.05′

(iv) Delaware artificial reef #13.

Point | Corner | N Latitude | W Longitude
1 | 13SE | 38°30.138′ | 74°30.582′
2 | 13SW | 38°30.222′ | 74°31.5′
3 | 13NW | 38°31.614′ | 74°30.864′
4 | 13NE | 38°31.734′ | 74°30.018′
5 | 13SE | 38°30.138′ | 74°30.582′

(2) New Jersey Special Management Zone Areas. Special management zones are established for New Jersey artificial reef permit areas, in the area of the U.S. Exclusive Economic Zone. From January 1 through December 31 of each year, no person may fish in the New Jersey Special Management Zones except by handline, rod and reel, or spear fishing (including the taking of fish by hand). The New Jersey Special Management Zones are defined by rhumb lines connecting the following coordinates in the order stated:

(i) Sea Girt Reef Site.

Point | N Latitude | W Longitude
NE Corner | 40°08.22′ | 73°55.52′
ME Corner | 40°07.30′ | 73°56.67′
SE Corner | 40°06.13′ | 73°57.12′
SW Corner | 40°06.17′ | 73°57.57′
MW Corner | 40°07.48′ | 73°57.15′
NW Corner | 40°08.63′ | 73°55.73′
NE Corner | 40°08.22′ | 73°55.52′

(ii) Garden State North Reef Site.

Point | N Latitude | W Longitude
NE Corner | 39°38.05′ | 74°00.70′
SE Corner | 39°37.05′ | 74°01.00′
SW Corner | 39°37.00′ | 74°02.50′
NW Corner | 39°37.98′ | 74°02.20′
NE Corner | 39°38.05′ | 74°00.70′

(iii) Garden State South Reef Site.

Point | N Latitude | W Longitude
NE Corner | 39°33.82′ | 74°05.75′
SE Corner | 39°33.33′ | 74°05.85′
SW Corner | 39°33.33′ | 74°07.35′
NW Corner | 39°33.80′ | 74°07.20′
NE Corner | 39°33.82′ | 74°05.75′

(iv) Little Egg Reef Site.

Point | N Latitude | W Longitude
NE Corner | 39°29.00′ | 74°10.00′
SE Corner | 39°28.00′ | 74°10.00′
SW Corner | 39°28.00′ | 74°12.00′
NW Corner | 39°29.00′ | 74°12.00′
NE Corner | 39°29.00′ | 74°10.00′

(v) Atlantic City Reef Site.

Point | N Latitude | W Longitude
NE Corner | 39°16.90′ | 74°15.28′
SE Corner | 39°13.93′ | 74°11.80′
SW Corner | 39°13.30′ | 74°12.70′
NW Corner | 39°16.22′ | 74°16.18′
NE Corner | 39°16.90′ | 74°15.28′

(vi) Great Egg Reef Site.

Point | N Latitude | W Longitude
NE Corner | 39°15.00′ | 74°21.00′
SE Corner | 39°14.00′ | 74°21.00′
SW Corner | 39°14.00′ | 74°22.00′
NW Corner | 39°15.00′ | 74°22.00′
NE Corner | 39°15.00′ | 74°21.00′

(vii) Ocean City Reef Site.

Point | N Latitude | W Longitude
NE Corner | 39°10.75′ | 74°32.35′
SE Corner | 39°09.40′ | 74°34.62′
SW Corner | 39°09.82′ | 74°34.97′
NW Corner | 39°11.10′ | 74°32.85′
NE Corner | 39°10.75′ | 74° 32.35′

(viii) Shark River Reef Site.

Point | N Latitude | W Longitude
NE Corner | 40°07.33′ | 73°41.08′
SE Corner | 40°06.20′ | 73°41.08′
SW Corner | 40°20.20′ | 73°41.80′
NW Corner | 40°07.33′ | 73°41.80′
NE Corner | 40°07.33′ | 73°41.08′

(ix) Barnegat Light Reef Site.

Point | N Latitude | W Longitude
NE Corner | 39°45.87′ | 74°01.10′
SE Corner | 39°44.62′ | 74°01.10′
SW Corner | 39°44.62′ | 74°01.95′
NW Corner | 39°45.87′ | 74°01.95′
NE Corner | 39°45.87′ | 74°01.10′

(x) Wildwood Reef Site.

Point | N Latitude | W Longitude
NE Corner | 38°57.85′ | 74°39.70′
SE Corner | 38°56.58′ | 74°41.40′
SW Corner | 38°57.55′ | 74°42.60′
NW Corner | 38°58.80′ | 74°40.90′
NE Corner | 38°57.85′ | 74°39.70′

(xi) Deepwater Reef Site.

Point | N Latitude | W Longitude
NE Corner | 38°59.00′ | 74°10.50′
SE Corner | 38°58.00′ | 74°10.50′
SW Corner | 38°58.00′ | 74°11.50′
NW Corner | 38°59.00′ | 74°11.50′
NE Corner | 38°59.00′ | 74°10.50′

(xii) Cape May Reef Site.

Point | N Latitude | W Longitude
NE Corner | 38°53.45′ | 74°39.43′
SE Corner | 38°50.07′ | 74°42.25′
SW Corner | 38°50.67′ | 74°43.25′
NW Corner | 38°53.97′ | 74°40.62′
NE Corner | 38°53.45′ | 74°39.43′

(xiii) Townsend Inlet Reef Site.

Point | N Latitude | W Longitude
NE Corner | 39°06.70′ | 74°36.00′
SE Corner | 39°06.25′ | 74°36.00′
SW Corner | 39°06.25′ | 74°37.50′
NW Corner | 39°06.70′ | 74°37.50′
NE Corner | 39°06.70′ | 74°36.00′

[FR Doc. 2018-02916 Filed 2-12-18; 8:45 am]

BILLING CODE 3510-22-P